DEPARTMENT OF EDUCATION

Office of Elementary and Secondary Education; Overview Information; Migrant Education Even Start Family Literacy Program; Notice Inviting Applications for New Awards for Fiscal Years (FY) 2005 and 2006

Catalog of Federal Domestic Assistance (CFDA) Number: 84.214A.

Dates: Applications Available: March 28, 2006. Deadline for Transmittal of Applications: May 12, 2006. Deadline for Intergovernmental Review: July 11, 2006.

Eligible Applicants: Any entity is eligible to apply for a grant under the Migrant Education Even Start (MEES) Family Literacy Program. For example, the following types of entities are eligible to apply: State educational agencies (SEAs) that administer migrant education programs; local educational agencies (LEAs) that have a high percentage of migratory students; nonprofit community-based organizations that work with migratory agricultural or fishing families; and faith-based organizations.

Estimated Available Funds: $3,450,000. This is the combined estimate from both FY 2005 and FY 2006 funds. Contingent upon the availability of funds and the quality of applications, we may make additional awards in FY 2007 from the list of unfunded applicants from this competition.

Estimated Range of Awards: $150,000-$500,000 per year.

Estimated Average Size of Awards: $345,000 per year.

Estimated Number of Awards: 10.

Note: The Department is not bound by any estimates in this notice.

Project Period: Up to 48 months.

Full Text of Announcement

I. Funding Opportunity Description

Purpose of Program: MEES Family Literacy program grants are intended to help break the cycle of poverty and illiteracy of migratory agricultural or fishing families by improving the educational opportunities of these families through the integration of early childhood education, adult literacy or adult basic education, and parenting education into a unified family literacy program. This program is implemented through cooperative activities that build on high-quality existing community resources to create a new range of educational services for most-in-need migratory agricultural or fishing families; promote the academic achievement of migratory children and adults; assist migratory children and adults from low-income families in achieving challenging State content standards and challenging State student achievement standards; and use instructional programs based on scientifically based reading research on preventing and overcoming reading difficulties for children and adults. The application package contains a description of the 15 program elements that MEES projects must provide, as required under Title I, Part B, Section 1235 of the Elementary and Secondary Education Act of 1965, as amended (ESEA).

Priorities: This notice includes one competitive preference priority and two invitational priorities.

Competitive Preference Priority: For the FY 2006 competition and any subsequent year in which we make awards based on the list of unfunded applicants from this competition, this priority is a competitive preference priority. In accordance with 34 CFR 75.105, this priority is from the Education Department General Administrative Regulations (EDGAR) that apply to this program (34 CFR 75.225). Under 34 CFR 75.105(c)(2)(i) we award an additional five points to an application that meets this competitive preference priority.

This Priority Is: Novice Applicant

The applicant must be a “novice applicant.” Under 34 CFR 75.225 a novice applicant is an applicant that has never received a grant or subgrant under the MEES program; has never been a participant in a group application, submitted in accordance with §§ 75.127 through 75.129 of EDGAR, that received a grant under the MEES program; and has not had an active discretionary grant from the Federal Government in the five years before the deadline date for applications under the MEES program.

Invitational Priorities: For the FY 2006 competition and any subsequent year in which we make awards based on the list of unfunded applicants from this competition, these priorities are invitational priorities. Under 34 CFR 75.105(c)(1) we do not give an application that meets these invitational priorities a competitive or absolute preference over other applications.

These Priorities Are: Invitational Priority 1—Partnerships to Improve School Readiness

The Secretary is especially interested in applications for projects that would develop collaborative efforts and partnerships that leverage Federal, State, and local funding in order to improve reading proficiency and advance English language acquisition so that migratory children enter elementary school with strong early reading skills.

Invitational Priority 2—Collaboration With Experienced MEES Projects

The Secretary is especially interested in applications that would build networks among novice applicants and experienced MEES projects in order to eliminate disruptions in the education of participating families and engage migrant agricultural or fishing families wherever they move outside the area in which the project operates. Networks among experienced and novice projects increase the likelihood of maintaining the academic progress of migratory adults and children regardless of where migratory families travel to perform qualifying agricultural or fishing work.

Program Authority: 20 U.S.C. 6381a(a)(1)(A).

Applicable Regulations: EDGAR in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Discretionary grants.

Estimated Available Funds: $3,450,000. This is the combined estimate from both FY 2005 and FY 2006 funds. Contingent upon the availability of funds and the quality of applications, we may make additional awards in FY 2007 from the list of unfunded applicants from this competition.

Estimated Range of Awards: $150,000—$500,000 per year.

Estimated Average Size of Awards: $345,000 per year.

Estimated Number of Awards: 10.

Note: The Department is not bound by any estimates in this notice.

Project Period: Up to 48 months.

III. Eligibility Information

1. Eligible Applicants: Any entity is eligible to apply for a grant under the MEES Family Literacy Program. For example, the following types of entities are eligible to apply: SEAs that administer migrant education programs; LEAs that have a high percentage of migratory students; nonprofit community-based organizations that work with migratory agricultural or fishing families; and faith-based organizations.

2. Cost Sharing or Matching: See ESEA section 1234(b). Matching requirements for the MEES program begin at 10 percent of the total cost of the project in the project's first year and increase incrementally as the project continues to receive Federal support. A project funded for a second cycle, years 5 through 8, must maintain a 50 percent cost share of the total cost of the project. A project funded for cycles beginning in year 9 must maintain a 65 percent cost share of the total cost of the project.

3. Other: Eligible MEES participants consist of migratory children and their parents who meet the definitions of a migratory child, a migratory agricultural worker, or a migratory fisher in 34 CFR 200.81 and who also meet the conditions specified in section 1236(a) of the ESEA.

IV: Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.214A.

Individuals with disabilities may obtain a copy of the application package in an alternative format (e.g., Braille, large print, audiotape, or computer diskette) by contacting the program contact person listed under section VII of this notice.

2. Content and Form of Application Submission: Requirements concerning the content of an application, together with the forms you must submit, are in the application package for this program.

Page, Appendices, and Other Limits: (1) The application narrative (Part III of the application) is where you, the applicant, address the selection criteria that reviewers use to evaluate your application. In addition, the budget narrative is where you provide an itemized budget breakdown, by project year, for each budget category listed in Sections A and B of Budget Form 524. You are encouraged to limit your application narrative (Part III of the application) to the equivalent of no more than 25 pages and limit the additional budget narrative to the equivalent of no more than 4 typed pages. Use the following standards for both the application and budget narratives:

• A “page” is 8.5″ x 11″, on one side only, with 1″ margins at the top, bottom, and both sides.

• Double space (no more than three lines per vertical inch) text in the application and budget narratives, including titles, headings, footnotes, quotations, references, and captions. However, you may single space information in tables, charts, or graphs in the application and budget narratives and appendices.

• Use a font that is either 12-point or larger or no smaller than 10 pitch (characters per inch). You may use other point fonts for any tables, charts, and graphs, but those tables, charts, and graphs should be in a font size that is easily readable by the reviewers of your application.

• Any application or budget narrative, table, chart, or graph is included in the over-all narrative page limit. The appendices are not part of these page limits.

(2) You are encouraged to limit the appendices, curriculum vitae, or position descriptions of no more than five people (including key contract personnel and consultants), and endnote citations to no more than two pages for the scientifically based reading research upon which your instructional programs are based.

(3) Additionally, please limit other application materials to the specific materials indicated in the application package and do not include any video or other non-print materials.

3. Submission Dates and Times: Applications Available: March 28, 2006. Deadline for Transmittal of Applications: May 12, 2006.

Applications for grants under this program may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements. Deadline for Intergovernmental Review: July 11, 2006.

4. Intergovernmental Review: This program is subject to Executive Order 12372 and the regulations in 34 CFR part 79. Information about Intergovernmental Review of Federal Programs under Executive Order 12372 is in the application package for this program.

5. Funding Restrictions: Recipients of a MEES Family Literacy program grant may not use funds awarded under this competition for the indirect costs of a project or claim indirect costs as part of the local project share. (ESEA section 1234(b)(3)) We reference regulations outlining additional funding restrictions in the Applicable Regulations section of this notice.

6. Other Submission Requirements: Applications for grants under this program may be submitted electronically or in paper format by mail or hand delivery.

a. Electronic Submission of Applications.

We have been accepting applications electronically through the Department's e-Application system since FY 2000. In order to expand on those efforts and comply with the President's Management Agenda, we are continuing to participate as a partner in the new governmentwide Grants.gov Apply site in FY 2006. The MEES Family Literacy Program—CFDA Number 84.214A is one of the programs included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for the MEES Family Literacy Program at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this program to ensure that you submit your application in a timely manner to the Grants.gov system. You can also find the Education Submissions Procedures pertaining to Grants.gov at http://e-grants.ed.gov/help/GrantsgovSubmissionProcedures.pdf.

• To submit your application via Grants.gov, you must complete all of the steps in the Grants.gov registration process (see http://www.Grants.gov/GetStarted). These steps include (1) Registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to submit an application successfully via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text), or .PDF (Portable Document) format. If you upload a file type other than the three file types specified above or submit a password-protected file, we will not review that material.

• Your electronic application must comply with any page-limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under For Further Information Contact, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to register fully to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.214A), 400 Maryland Avenue, SW., Washington, DC 20202-4260.

or

By mail through a commercial carrier: U.S. Department of Education, Application Control Center—Stop 4260, Attention: (CFDA Number 84.214A), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.214A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this program are in 34 CFR 75.210. The selection criteria are included in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The Government Performance and Results Act (GPRA) directs Federal departments and agencies to improve the effectiveness of their programs by engaging in strategic planning, setting outcome-related goals for programs, and measuring program results against those goals. Program officials must develop performance measures for all of their grant programs in order to assess their performance and effectiveness. The Department has established a set of indicators to assess the effectiveness of the Even Start program. The MEES Family Literacy projects will use these indicators to measure increases in the (1) Percentage of adults showing significant learning gains on measures of reading; (2) percentage of limited English proficient (LEP) adults showing significant learning gains on measures of English language acquisition; (3) percentage of school-age adults who earn a high school diploma or GED; (4) percentage of non-school-age adults who earn a high school diploma or GED; (5) percentage of children entering kindergarten who are achieving significant learning gains on measures of language development; (6) the average number of letters children can identify as measured by the PALS Pre-K Uppercase Letter Naming Subtask; (7) percentage of school-age children who are reading on grade level; and (8) percentage of parents who show improvement on measures of parental support for children's learning in the home, school environment, and through interactive learning activities.

All grantees will be expected to submit, as part of an annual performance report, information documenting their progress with regard to these performance measures.

VII. Agency Contact

For Further Information Contact: DonnaMarie Marlow, U.S. Department of Education, 400 Maryland Avenue, SW., room 3E313, Washington, DC 20202-6135. Telephone: (202) 260-2815 or by e-mail: DonnaMarie.Marlow@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 22, 2006.
Henry L. Johnson,
Assistant Secretary for Elementary and Secondary Education.

[FR Doc. E6-4435 Filed 3-27-06; 8:45 am]

BILLING CODE 4000-01-P